DEPARTMENT OF TRANSPORTATION

Federal Aviation Administration

Proposed Advisory Circular 25-17A Revision, Transport Airplane Cabin Interiors Crashworthiness Handbook

AGENCY: Federal Aviation Administration, DOT.

ACTION: Notice of availability of proposed advisory circular (AC) 25-17A and request for comments; extension of comment period.

SUMMARY: This notice announces the extension of the comment period for proposed advisory circular (AC) 25-17A, which was published in the Federal Register on November 16, 2005 (70 FR 69623), and closes on March 16, 2006. In that notice,the FAA invited public comment on a proposed AC which provides guidance on a means, but not the only means, of compliance with Title 14, Code of Federal Regulations concerning the crashworthiness requirements as applied to cabin interiors. This extension of the comment period is necessary to give all interested persons an opportunity to present their views on the proposed AC.

DATES: Comments must be received on or before May 1, 2006.

ADDRESSES: Send all comments on proposed AC to: Federal Aviation Administration, Attention: Jayson Claar, Airframe/Cabin Safety Branch, ANM-115, Transport Airplane Directorate, Aircraft Certification Service, 1601 Lind Avenue, SW., Renton, WA 98055-4056. Comments may be inspected at the above address between 7:30 a.m. and 4 p.m. weekdays, except Federal holidays.

FOR FURTHER INFORMATION CONTACT: Jayson Claar at the above address, telephone (206) 227-2194; facsimile (425) 227-1232; or e-mail at: jayson.claar@faa.gov.

SUPPLEMENTARY INFORMATION:

Comments Invited

Interested persons are invited to comment on the proposed AC by submitting such written data, views, or arguments, as they may desire. Commenters should identify AC 25-17A, and submit comments, in duplicate, to the address specified above. The Transport Standards Staff will consider all communications received on or before the closing date for comments before issuing the final AC. The AC can be found and downloaded from the Internet at: http://www.airweb.faa.gov/rgl under “Draft Advisory Circulars.” A paper copy or a CD ROM of the proposed AC may be obtained by contacting the person named above under the caption FOR FURTHER INFORMATION CONTACT.

Background

This proposed AC revision contains guidance pertinent to the cabin safety and crashworthiness type certification requirements of part 25 as amended by Amendments 25-1 through 25-112. Previously, two ACs on this subject have been available to the public:

• AC 25-17 was issued on 7/15/91. It covers Amendments 25-1 through 25-59.

• A proposed AC 25-17A revision was published on 10/7/99, for public comment. It covered Amendments 25-1 through 25-70. That revision was never issued as a final document.

• To assist in reviewing the proposed AC, the FAA identifies the additions/changes made to the guidance by highlighting the text changes the first time they appear. The baseline for identifying the changes to the guidance is the existing AC 25-17, dated 7/15/91.

Extension of Comment Period

Since publication of the notice, the FAA has received a request that the comment period for the notice be extended past its original closing date of march 16, 2006, to allow more time in which to study the proposal and to prepare comments on this very important issue.

The FAA has reviewed the request for consideration of an additional amount of time to comment on proposed AC 25-17A, and has determined that extending the comment period would be in the public interest and that good cause exists for taking this action. Accordingly, the comment period of proposed AC 25-17A is extended until May 1, 2006.

Issued in Renton, Washington, on March 7, 2006.
Kalene C. Yanamura,
Acting Manager, Transport Airplane Directorate, Aircraft Certification Service.

[FR Doc. 06-2446 Filed 3-14-06; 8:45 am]

BILLING CODE 4910-13-M